ENVIRONMENTAL PROTECTION AGENCY

[EPA-R01-OAR-2008-0445; A-1-FRL-8686-5]

Adequacy Status of the Rhode Island 8-Hour Ozone Motor Vehicle Emissions Budgets for Transportation Conformity Purposes; Rhode Island

AGENCY: Environmental Protection Agency (EPA).

ACTION: Notice of adequacy.

SUMMARY: EPA is notifying the public that EPA has found that the 2008 and 2009 motor vehicle emissions budgets in the April 30, 2008 Rhode Island 8-hour ozone State Implementation Plan revision are adequate for transportation conformity purposes. The submittal includes 2008 and 2009 motor vehicle emission budgets for the Providence (All of RI), RI 8-hour ozone nonattainment area. As a result of our finding, Rhode Island must use these motor vehicle emission budgets for future conformity determinations.

DATES: This finding is effective July 15, 2008.

FOR FURTHER INFORMATION CONTACT: Ariel Garcia, Environmental Engineer, Air Quality Planning Unit, U.S. Environmental Protection Agency, EPA New England Regional Office, One Congress Street, Suite 1100 (CAQ), Boston, MA 02114-2023, (617) 918-1660, garcia.ariel@epa.gov.

SUPPLEMENTARY INFORMATION: Throughout this document, whenever “we,” “us” or “our” is used, we mean EPA.

Today's action is simply an announcement of a finding that we have already made. EPA New England sent a letter to the Rhode Island Department of Environmental Management on June 16, 2008, stating that the 2008 and 2009 motor vehicle emissions budgets (MVEBs) in the Providence (All of RI), RI 8-hour ozone nonattainment area are adequate. Rhode Island submitted the budgets on April 30, 2008, as part of the 8-hour ozone attainment demonstration and reasonable further progress plan for Rhode Island. This submittal was announced on EPA's conformity Web site, and received no comments. (See http://www.epa.gov/otaq/stateresources/transconf/adequacy.htm. Once there, click on ”What SIP submissions are currently under EPA adequacy review?”)

The 2008 and 2009 MVEBs, in tons per summer day (tpsd), for volatile organic compounds (VOC) and oxides of nitrogen (NOX) for Providence (All of RI), RI, are as follows:

Adequate Motor Vehicle Emissions Budgets
| Providence (All of RI), RI area: VOC (tpsd) | Providence (All of RI), RI area: NOX (tpsd)
Year 2008 | 24.64 | 28.26
Year 2009 | 22.75 | 25.29

Transportation conformity is required by section 176(c) of the Clean Air Act. EPA's conformity rule requires that transportation plans, programs, and projects conform to state air quality implementation plans and establishes the criteria and procedures for determining whether or not they do. Conformity to a SIP means that transportation activities will not produce new air quality violations, worsen existing violations, or delay timely attainment of the national ambient air quality standards.

The criteria by which we determine whether a SIP's motor vehicle emissions budgets are adequate for conformity purposes are outlined in 40 CFR 93.118(e)(4). We have described our process for determining the adequacy of submitted SIP budgets in our July 1, 2004, preamble starting at 69 FR 40038, and we used the information in these resources while making our adequacy determination. Please note that an adequacy review is separate from EPA's completeness review, and it also should not be used to prejudge EPA's ultimate approval of the SIP. Even if we find a budget adequate, the SIP could later be disapproved.

Authority: 42 U.S.C. 7401-7671 q.

Dated: June 21, 2008.
Robert W. Varney,
Regional Administrator, EPA New England.

[FR Doc. E8-14798 Filed 6-27-08; 8:45 am]

BILLING CODE 6560-50-P